DEPARTMENT OF HEALTH AND HUMAN SERVICES

Centers for Medicare & Medicaid Services

42 CFR Parts 410, 411, 414, 415, 485, and 498

[CMS-1413-CN3]

RIN 0938-AP40

Medicare Program; Payment Policies Under the Physician Fee Schedule and Other Revisions to Part B for CY 2010; Corrections

AGENCY: Centers for Medicare & Medicaid Services (CMS), HHS.

ACTION: Final rule; correction.

SUMMARY: This document corrects several technical and typographical errors in the final rule with comment period that appeared in the November 25, 2009, Federal Register entitled “Medicare Program; Payment Policies Under the Physician Fee Schedule and Other Revisions to Part B for CY 2010”.

DATES: Effective Date: This correction is effective January 1, 2010.

FOR FURTHER INFORMATION CONTACT: Diane Milstead, (410) 786-3355.

SUPPLEMENTARY INFORMATION:

I. Background

In FR Doc. E9-26502 of November 25, 2009 (74 FR 61738) (hereinafter referred to as the CY 2010 PFS final rule with comment period), there were a number of technical and typographical errors that are identified and corrected in the Correction of Errors section of this notice. The provisions of this notice are effective as if they had been included in the CY 2010 PFS final rule with comment period. Accordingly, the corrections are effective January 1, 2010.

II. Summary of Errors

A. Errors in the Preamble

On page 61738, we are correcting the figure for the CY 2010 conversion factor (CF). This change results from a technical error in adjusting relative value units (RVUs) to reflect the agency's policy related to the consultation codes.

On page 61746, we are correcting the note referencing the CF used in Table 1.

On pages 61747 and 61748, we are replacing Table 1, Calculation of practice expense (PE) relative value units (RVUs) under Methodology for Selected Codes.

On page 61941, we are correcting language concerning the Five-year Review of work and the potential for adjustment of PE RVUS.

On page 61952, in Table 30, we are correcting the CMS 2010 Interim work RVU (WRVU) for CPT code 51729-26.

On page 61955, we are correcting the reference to the status indicator assigned to CPT code 90470.

On page 61968, we are correcting the figures for the CY 2010 physician fee schedule (PFS) CF and national anesthesia CF for the reasons indicated above.

On page 61969, we are correcting the discussion concerning the CY 2010 CF for the reasons indicated above.

On page 61969, in Table 44, we are correcting the lines concerning the CY 2010 CF budget neutrality adjustment and CY 2010 CF for the reasons indicated above.

On page 61969, we are correcting the language preceding Table 45 for the reasons indicated above.

On page 61970, in Table 45, we are correcting the lines concerning the CY 2010 anesthesia adjustment and the CY 2010 anesthesia CF contained in the table for the reasons indicated above.

On pages 61985 and 61986, we are replacing Table 50 in its entirety to correct the payment amounts for CY 2010.

On page 62001, in the discussion concerning removing self-administered drugs from the SGR calculation we are deleting the word “proposal” which was inadvertently included in the sentence and substituting the word “change”. We are also correcting the CY 2010 payment amounts associated with CPT code 99203.

B. Errors in the Addenda

On pages 62044 through 62143 of Addendum B, Relative Value Units and Related Information Used in Determining Medicare Payments for 2009, the RVUs and status indicators listed for CPT codes 90470, and 95803, 95803-TC 95803-26 are corrected. In addition the RVUs for CPT codes 51729, 51729-26, 74261, 74261-TC, 74262, 74262-TC, 75571, 75571-TC, 75572, 75572-TC, 75573, 75573-TC, 77078, 77078-TC, 77084, 77084-TC, 94011, 94012, 94013, 99221, 99222, 99223, 99304, 99305 and 99306, G0425, G0426, G0427, G0252-26 and the global period for CPT codes 75565, 75565-TC, 75565-26 are corrected.

On pages 62145 and 62146, of Addendum C, Codes with Interim RVUs, the global period listed for CPT code 75565 and the RVUs for CPT codes 51729-26, 94011, 94012 and 94013 are corrected.

III. Correction of Errors

In FR Doc. E9-26502 of November 25, 2009 (74 FR 61738), make the following corrections:

A. Corrections to the Preamble

1. On page 61738, in the 1st column; in the 2nd paragraph, line 13, the figure “$28.4061” is corrected to read “$28.3895.”

2. On page 61746, in the 3rd column; in the last paragraph, line 3, the figure “$28.3769” is corrected to read “$36.0666.”

3. On pages 61747 and 61748, Table 1 is replaced in its entirety to reflect the corrected CF.

BILLING CODE 4120-01-P

BILLING CODE 4120-01-C

4. On page 61941, in the 2nd column; in the 3rd paragraph, lines 12 through 14, the phrase “the PE inputs, and we could be impacted and we would them accordingly” is corrected to read “the PE inputs could be impacted and we would therefore adjust them accordingly.”

5. On page 61952, in Table 30, line 15, is corrected to read as follows:

# | 51729 |  | 26 | CYSTOMETROGRAM W/VP&UP | 2.51 | Agree | 2.11

6. On page 61955, in the 1st column; in the 2nd full paragraph, the last sentence, “We have assigned a status indicator of “N” (Non-covered) to this service and will publish the AMA RUC-recommended value in accordance with our practice for non-covered CPT codes” is corrected to read “We have assigned a status indicator of “I” (Not valid for Medicare purposes. Medicare uses another code for the reporting of and the payment for these services). We will publish the AMA RUC-recommended value in accordance with the practice for non-covered CPT codes.”

7. On page 61968, in the 2nd column; in the 1st full paragraph under Table 43,

a. Line 1, the figure “$28.4061” is corrected to read “$28.3895”.

b. Line 3, the figure “$16.6191” is corrected to read “$16.6108”.

8. On page 61969,

a. In the 3rd column, in the 1st partial paragraph, line 3, the figure “1.00103” is corrected to read “1.000445”.

b. In Table 44 the last two lines are corrected to read as follows:

Table 44—Calculation of the CY 2010 PFS CF
CY 2010 CF Budget Neutrality Adjustment | 0.0445 percent (1.000445)
CY 2010 Conversion Factor |  | $28.3895

c. In the 3rd column, the paragraph following Table 44, the last 2 lines, the phrase “policies for PE and malpractice RVUs” is corrected to read “policies for work, PE, and malpractice RVUs”.

9. On page 61970, Table 45, the last two lines of are corrected to read as follows:

Table 45—Calculation of the CY 2010 Anesthesia Conversion Factor
CY 2010 Anesthesia Adjustment | 0.94 percent (1.0094)
CY 2010 Anesthesia Conversion Factor |  | $16.6108

10. On pages 61985 and 61986, Table 50 is corrected in its entirety including the title to read as follows:

BILLING CODE 4120-01-P

11. On page 62001,

a. In the 1st column, in the 1st full paragraph, line 19, the phrase “proposal will cost” is corrected to read “change will cost”.

b. In the 3rd column, the 1st full paragraph, the sentence “Based on this rule, the 2010 national payment amount in the non-facility setting for CPT code 99203, as shown in Table 49, is $76.98 which means that, in 2010, the beneficiary coinsurance for this service would be $15.40.” is corrected to read “Based on this rule, the 2010 national payment amount in the non-facility setting for CPT code 99203, as shown in Table 50 is $76.94 which means that, in 2010, the beneficiary coinsurance for this service would be $15.38.”

B. Corrections to the Addenda

1. On pages 62044 through 62143, in Addendum B: Relative Value Units and Related Information Used in Determining Medicare Payments for 2010, the following CPT codes are corrected to read as follows:

2. On pages 62145 and 62146, in Addendum C: Codes with Interim RVUs, the following CPT codes are corrected to read as follows:

BILLING CODE 4120-01-C

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedure if the Secretary finds, for good cause, that the notice and comment process is impracticable, unnecessary, or contrary to the public interest, and incorporates a statement of the finding and the reasons for it in the rule.

Section 553(d) of the APA ordinarily requires a 30-day delay in the effective date of final rules after the date of their publication. This 30-day delay in effective date can be waived, however, if an agency finds for good cause that the delay is impracticable, unnecessary, or contrary to the public interest, and the agency incorporates a statement of the findings and its reasons in the rule issued.

This document merely corrects typographical and technical errors made in FR Doc. E9-26502, the CY 2010 PFS final rule with comment period, which appeared in the November 25, 2009 Federal Register (74 FR 61738), and is (with limited exceptions not relevant to these corrections, but noted in the rule), effective January 1, 2010. The provisions of the final rule with comment period have been subjected previously to notice and comment procedures. The corrections contained in this document are consistent with, and do not make substantive changes to, the payment methodologies and policies adopted in the CY 2010 PFS final rule with comment period. As such, these corrections are being made to ensure the CY 2010 PFS final rule with comment period accurately reflects the policies adopted in that rule. We find, therefore, for good cause that it is unnecessary and would be contrary to the public interest to undertake further notice and comment procedures to incorporate these corrections into the CY 2010 PFS final rule with comment period.

For the same reasons, we are also waiving the 30-day delay in effective date for these corrections. We believe that it is in the public interest to ensure that the CY 2010 PFS final rule with comment period accurately states our policies as of the date they take effect. Therefore, we find that delaying the effective date of these corrections beyond the effective date of the final rule with comment period would be contrary to the public interest. In so doing, we find good cause to waive the 30-day delay in the effective date.

Authority: Catalog of Federal Domestic Assistance Program No. 93.774, Medicare—Supplementary Medical Insurance Program.

Dated: December 3, 2009.
Dawn L. Smalls,
Executive Secretary to the Department.

[FR Doc. E9-29256 Filed 12-7-09; 4:15 pm]

BILLING CODE 4120-01-P